DEPARTMENT OF COMMERCE

National Institute of Standards and Technology

Public Workshop to Seek Comment on Federal Conformity Assessment Guidance

AGENCY: National Institute of Standards and Technology (NIST), Department of Commerce.

ACTION: Notice of Public Workshop.

SUMMARY: The U.S. Department of Commerce's (DOC) National Institute of Standards and Technology (NIST) will hold a free public workshop titled “Conformity Assessment—Approaches and Best Practices” on Wednesday, April 11, 2012 at 9 a.m. Eastern Time (ET) at NIST in Gaithersburg, Maryland. The purpose of the NIST public workshop is (1) to examine current approaches to conformity assessment among Federal agencies and the private sector and (2) to provide a forum for discussion with NIST on conformity assessment practices, challenges and the means by which these challenges are being addressed.

ADDRESSES: NIST, Building 101, Green Auditorium, 100 Bureau Drive in Gaithersburg, MD 20899.

DATES: Wednesday, April 11, 2012; 9 a.m. to 4 p.m. ET. Please see registration information and deadlines in the SUPPLEMENTARY INFORMATION section below.

FOR FURTHER INFORMATION CONTACT: Gordon Gillerman, NIST Standards Coordination Office (SCO), Standards Services Division (SSD), 100 Bureau Drive, Gaithersburg, MD; Email: Federal_CA@nist.gov.

SUPPLEMENTARY INFORMATION: Section 12(b) of the National Technology Transfer and Advancement Act (NTTAA—Pub. L. 104-113) requires NIST to coordinate Federal, State, and local standards activities and conformity assessment activities with the private sector, with the goal of eliminating unnecessary duplication and complexity. OMB A119, which provides additional policy guidance on implementation of the NTTAA, directed the Secretary of Commerce to issue guidance to Federal agencies on conformity assessment related issues. In response, NIST published regulations entitled “Guidance on Federal Conformity Assessment Activities” in August 2000 (15 CFR part 287). The regulations outline Federal agencies' responsibility for evaluating the efficiency and effectiveness of their conformity assessment activities and are intended to help Federal agencies improve the management and coordination of their own conformity assessment activities in support of their regulatory, procurement and other mission objectives.

Discussions at the workshop will inform NIST conformity assessment guidance to Federal agencies. The conference will include presentations from key government officials, regulators, and industry and conformity assessment experts. Time will be allotted for participant input and discussions.

Registration Information: U.S. Citizens and Permanent Residents wishing to attend the meeting must register by 5 p.m. ET April 3, 2012. Non-U.S. Citizens that do not hold a green card must register by 5 p.m. ET March 27, 2012. There will be no onsite registration. To register, please go to the NIST Conference Services registration link: https://www-s.nist.gov/CRS/conf_disclosure.cfm?&conf_id=5282.

There is no registration fee.

Dated: March 8, 2012.
Kevin Kimball,
Chief of Staff.

[FR Doc. 2012-6373 Filed 3-15-12; 8:45 am]

BILLING CODE 3510-13-P